DEPARTMENT OF HEALTH AND HUMAN SERVICES

Centers for Disease Control and Prevention

Disease, Disability, and Injury Prevention and Control Special Emphasis Panel: Childhood Agricultural Safety and Health Research, Request for Applications (RFA) OH-07-002

In accordance with section 10(a)(2) of the Federal Advisory Committee Act (Pub. L. 92-463), the Centers for Disease Control and Prevention (CDC) announces a meeting of the aforementioned Special Emphasis Panel.

Time and Date: 8 a.m.-5 p.m., February 6, 2007 (Closed).

Place: Residence Inn Marriott, 1456 Duke Street, Alexandria, Virginia 22314.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to RFA OH-07-002, “Childhood Agricultural Safety and Health Research.”

Contact Person for More Information: Steve Olenchock, Scientific Review Administrator, National Institute for Occupational Safety and Health, 1095 Willowdale Road, Morgantown, WV 26506, telephone (304) 285-6271.

The Director, Management Analysis and Services Office, has been delegated the authority to sign Federal Register notices pertaining to announcements of meetings and other committee management activities, for both CDC and the Agency for Toxic Substances and Disease Registry.

Elaine Baker,
Acting Director, Management Analysis and Services Office, Centers for Disease Control and Prevention.

[FR Doc. E7-506 Filed 1-16-07; 8:45 am]

BILLING CODE 4163-18-P